DEPARTMENT OF TRANSPORTATION

Federal Highway Administration

Environmental Impact Statement: Desha, Chicot, Ashley, Drew, Union, Bradley, Calhoun, Ouachita, and Columbia Counties, AR

AGENCY: Federal Highway Administration (FHWA), DOT.

ACTION: Notice of intent.

SUMMARY: The FHWA is issuing this notice to advise the public that an environmental impact statement will be prepared for a proposed highway project in the Arkansas Counties of Desha, Chicot, Ashley, Drew, Union, Bradley, Calhoun, Ouachita, and Columbia.

FOR FURTHER INFORMATION CONTACT: Randal Looney, Environmental Specialist, Federal Highway Administration, Room 3130 Federal Building, Little Rock, Arkansas 72201-3298, telephone: (501) 324-6430; or Dale Loe, Consultant Coordinator, Assistant Chief Engineer, Arkansas State Highway and Transportation Department, P.O. Box 2261, Little Rock, Arkansas 72203, telephone: (501) 569-2301.

SUPPLEMENTARY INFORMATION: The FHWA, in cooperation with the Arkansas State Highway and Transportation Department (AHTD), will prepare an Environmental Impact Statement (EIS) for a segment of the proposed Interstate 69 corridor in Arkansas.

This approximately 85-mile segment of I-69 will connect the Mississippi River crossing of I-69 to U.S. 167 near El Dorado and will improve regional travel, safety, intermodal connectivity and will enhance the economic vitality of the project area. This segment will accommodate the overall purpose of the national I-69 Corridor, a much larger transcontinental project identified as a “high priority corridor” on the National Highway System that would provide a North American Free Trade Agreement (NAFTA) transportation corridor of national significance from Canada to Mexico. I-69 is also a transportation recommendation of the Delta Initiative aimed at the revitalization and economic development of the Lower Mississippi Delta.

I-69 is proposed to be a fully controlled access facility located on a new alignment. Several alternatives and locations will be considered, including the “no-action” alternative. The western terminus of the project will connect to U.S. 167 near El Dorado, Arkansas and the eastern terminus will connect to U.S. 65 near McGehee, Arkansas.

The FHWA and AHTD are seeking input as part of the scoping process to assist in determining and clarifying important issues relative to this project. Letters describing the proposed action and soliciting comments have been sent to appropriate Federal, state, and local agencies, Native American Tribes, and to private organizations and citizens who have previously expressed or are known to have an interest in this project. Formal scoping meetings with Federal, state, and local agencies, Native American Tribes, and other interested parties will be held in the near future. A series of public meetings will also be held in the study area beginning in early 2002, with on-going public involvement activities. The draft Environmental Impact Statement (EIS) will be available for public and agency review and comment prior to a formal public hearing. Public notice will be given of the time and place for all meetings and hearings.

To ensure that the full range of issues related to this project are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this proposed action.)
Issued on: December 3, 2001.
Derrell Turner,
Assistant Division Administrator, FHWA, Little Rock, Arkansas.

[FR Doc. 01-30329 Filed 12-6-01; 8:45 am]

BILLING CODE 4910-22-M